DEPARTMENT OF ENERGY

Federal Energy Regulatory Commission

Combined Notice of Filings #1

April 10, 2006.

Take notice that the Commission received the following electric rate filings.

Docket Numbers: ER01-1807-022; ER01-2020-019.

Applicants: Carolina Power & Light Company; Florida Power Corporation.

Description: Report of Carolina Power & Light Co. d/b/a Progress Energy Carolinas submits a Refund of Energy Imbalance Revenues report.

Filed Date: March 30, 2006.

Accession Number: 20060330-5022.

Comment Date: 5 p.m. Eastern Time on Thursday, April 20, 2006.

Docket Numbers: ER03-478-010; ER03-951-008: ER03-416-009; ER04-94-006; ER03-296-008; ER05-534-006; ER05-365-006; ER01-3121-007; ER02-418-006; ER05-332-006; ER06-1-004; ER02-417-006; ER05-1146-006; ER06-200-005; ER05-481-006; ER03-1326-004; ER05-1262-003.

Applicants: PPM Energy, Inc.; Moraine Wind LLC; Klondike Wind Power LLC; Mountain View Power Partners, LLC; Flying Cloud Power Partners, LLC; Eastern Desert Power LLC; Elk River Windfarm LLC; Klamath Energy LLC; Klamath Generation LLC; Klondike Wind Power II LLC; Leaning Juniper Wind Power LLC; Phoenix Wind Power LLC; Shiloh I Wind Project, LLC; Big Horn Wind Project LLC; Trimont Wind I LLC; Colorado Green Holdings LLC; Flat Rock Windpower LLC.

Description: PPM Energy Inc, Moraine Wind LLC et al. notify FERC of a change in their status as a result of the proposed acquisition of an interest in an affiliate of PPM by FC Energy I Inc etc.

Filed Date: March 29, 2006.

Accession Number: 20060331-0191.

Comment Date: 5 p.m. Eastern Time on Wednesday, April 19, 2006.

Docket Numbers: ER06-168-002.

Applicants: NorthWestern Corporation.

Description: NorthWestern Corp submits an amendment to its November 7, 2005 submittal, revisions to its OATT, FERC Electric Tariff, First Revised Volume 2 for its South Dakota operations etc.

Filed Date: March 30, 2006.

Accession Number: 20060404-0103.

Comment Date: 5 p.m. Eastern Time on Thursday, April 20, 2006.

Docket Numbers: ER06-432-002.

Applicants: Southwest Power Pool, Inc.

Description: Southwest Power Pool, Inc submits revised tariff language to its OATT, pursuant to the Commission February 28, 2006 order.

Filed Date: March 30, 2006.

Accession Number: 20060404-0014.

Comment Date: 5 p.m. Eastern Time on Thursday, April 20, 2006.

Docket Numbers: ER06-433-002.

Applicants: Midwest Independent Transmission System Operator Inc.

Description: Midwest Independent Transmission System Operator Inc submits a supplemental informational filing to its unexecuted Large Generator Interconnection Agreement among Twins Creek Wind LLC et al.

Filed Date: March 30, 2006.

Accession Number: 20060404-0012.

Comment Date: 5 p.m. Eastern Time on Thursday, April 20, 2006.

Docket Numbers: ER06-586-001.

Applicants: Midwest Independent Transmission System; Southern Minnesota Municipal Power Agency.

Description: Southern Minnesota Municipal Power Agency submits a response to the Commission March 15, 2006 directive for additional information.

Filed Date: March 30, 2006.

Accession Number: 20060403-0198.

Comment Date: 5 p.m. Eastern Time on Thursday, April 20, 2006.

Docket Numbers: ER06-745-001.

Applicants: MASSPOWER.

Description: MASSPOWER submits a supplement to its March 16, 2006 Application.

Filed Date: March 30, 2006.

Accession Number: 20060404-0011.

Comment Date: 5 p.m. Eastern Time on Thursday, April 20, 2006.

Docket Numbers: ER06-799-001.

Applicants: Entergy Services Inc.

Description: Entergy Services Inc, acting as agent for Entergy Operating Companies submits an amendment to its March 29, 2006 filling, unexecuted Standard Large Generation Interconnection Agreement with Arkansas Electric Coop Corp.

Filed Date: March 31, 2006.

Accession Number: 20060404-0013.

Comment Date: 5 p.m. Eastern Time on Friday, April 21, 2006.

Docket Numbers: ER06-801-000.

Applicants: Allegheny Energy Supply Company, LLC.

Description: Allegheny Energy Supply Co, LLC submits a petition requesting authorization to make wholesale power sales to its affiliate, The Potomac Edison Co, to become effective June 1, 2006.

Filed Date: March 29, 2006.

Accession Number: 20060406-0007.

Comment Date: 5 p.m. Eastern Time on Wednesday, April 19, 2006.

Docket Numbers: ER06-807-000.

Applicants: American Electric Power Service Corp.

Description: American Electric Power Service Corp submits cancellations of Point-to-Point & Network Integration Transmission Service Agreements made pursuant its OATT.

Filed Date: March 31, 2006.

Accession Number: 20060404-0080.

Comment Date: 5 p.m. Eastern Time on Friday, April 21, 2006.

Docket Numbers: ER06-808-000.

Applicants: Central Maine Power Company.

Description: Central Maine Power Co submits proposed revisions to the formula rate local transmission service set forth in Schedule 21-CMP of the ISO-Tariff.

Filed Date: March 31, 2006.

Accession Number: 20060403-0141.

Comment Date: 5 p.m. Eastern Time on Friday, April 21, 2006.

Docket Numbers: ER06-809-000.

Applicants: Xcel Energy Operating Companies; Northern States Power Company.

Description: Northern States Power Co submits Connection Agreements with Great River Energy for the Traverse Switching Station dated May 23, 2001 et al.

Filed Date: March 30, 2006.

Accession Number: 20060403-0190.

Comment Date: 5 p.m. Eastern Time on Thursday, April 20, 2006.

Docket Numbers: ER06-810-000.

Applicants: Midwest Independent Transmission System Operator, Inc.

Description: Midwest Independent Transmission System Operator, Inc submits proposed revisions to Article Two & Appendices A and F of the “Agreement of Transmission Facilities Owners to Organize the Midwest ISO etc.

Filed Date: March 31, 2006.

Accession Number: 20060403-0189.

Comment Date: 5 p.m. Eastern Time on Friday, April 21, 2006.

Docket Numbers: ER06-811-000.

Applicants: Entergy Services Inc.

Description: Entergy Services Inc on behalf of Entergy Arkansas, Inc submits an executed Service Agreement providing for cost-based, short-term power sales to the City of Prescott, Arkansas etc.

Filed Date: March 31, 2006.

Accession Number: 20060403-0188.

Comment Date: 5 p.m. Eastern Time on Friday, April 21, 2006.

Docket Numbers: ER06-812-000.

Applicants: Xcel Energy Services Inc.

Description: Xcel Energy Services Inc agent for Northern States Power Co et al submits notices of termination for the Network Integration Transmission Service Agreements and Network Operating Agreements etc.

Filed Date: March 31, 2006.

Accession Number: 20060403-0142.

Comment Date: 5 p.m. Eastern Time on Friday, April 21, 2006.

Docket Numbers: ER06-813-000.

Applicants: New England Power Pool Participants Committee

Description: New England Power Pool Participants Committee submits counterpart signature pages of the New England Power Pool Agreement dated as of September 1, 1971 etc.

Filed Date: March 31, 2006.

Accession Number: 20060403-0143.

Comment Date: 5 p.m. Eastern Time on Friday, April 21, 2006.

Docket Numbers: ER06-814-000.

Applicants: Consolidated Water Power Company.

Description: Consolidated Water Power Co submits an executed Service Agreement for Wholesale Distribution Service w/Wisconsin Public Service Corp etc.

Filed Date: March 31, 2006.

Accession Number: 20060403-0197.

Comment Date: 5 p.m. Eastern Time on Friday, April 21, 2006.

Docket Numbers: ER06-815-000.

Applicants: NRG Marketing Services LLC.

Description: NRG Marketing Services LLC submits a notice of cancellation of its market-based rate tariff, FERC Electric Tariff, Original Volume 1.

Filed Date: March 31, 2006.

Accession Number: 20060403-0144.

Comment Date: 5 p.m. Eastern Time on Friday, April 21, 2006.

Docket Numbers: ER06-816-000.

Applicants: California Independent System Operator Corporation.

Description: California Independent System Operator Corp submits Amendment 1 to its letter agreement with Bonneville Power Administration Transmission Business Line.

Filed Date: March 30, 2006.

Accession Number: 20060403-0186.

Comment Date: 5 p.m. Eastern Time on Thursday, April 20, 2006.

Docket Numbers: ER06-817-000.

Applicants: California Independent System Operator Corporation.

Description: California Independent System Operator Corp submits Amendment 2 to its Letter Agreement with Bonneville Power Administration Transmission Business Line etc.

Filed Date: March 30, 2006.

Accession Number: 20060403-0145.

Comment Date: 5 p.m. Eastern Time on Thursday, April 20, 2006.

Docket Numbers: ER06-818-000.

Applicants: San Diego Gas & Electric Company.

Description: San Diego Gas & Electric Co submits amendments to its Transmission Owner Tariff, etc.

Filed Date: March 31, 2006.

Accession Number: 20060403-0162.

Comment Date: 5 p.m. Eastern Time on Friday, April 21, 2006.

Docket Numbers: ER06-819-000.

Applicants: Consolidated Edison Energy of Massachusetts, Inc.

Description: Consolidated Edison Energy Massachusetts Inc submits its Reliability Agreement with ISO New England Inc.

Filed Date: March 30, 2006.

Accession Number: 20060405-0068.

Comment Date: 5 p.m. Eastern Time on Thursday, April 20, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-5610 Filed 4-14-06; 8:45 am]

BILLING CODE 6717-01-P